DEPARTMENT OF COMMERCE

National Oceanic and Atmospheric Administration

RIN 0648-XD075

Endangered Species; File No. 18136

AGENCY: National Marine Fisheries Service (NMFS), National Oceanic and Atmospheric Administration (NOAA), Commerce.

ACTION: Notice; issuance of permit modification.

SUMMARY: Notice is hereby given that Larry Wood, LDWood BioConsulting, Inc., 425 Kennedy Street, Jupiter, FL 33468 has been issued a modification to scientific research Permit No. 18136.

ADDRESSES: The modification and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Hapeman or Brendan Hurley; phone: (301) 427-8401.

SUPPLEMENTARY INFORMATION: On February 3, 2015, notice was published in the Federal Register (80 FR 5739) that a modification of Permit No. 18136, issued September 30, 2014 (79 FR 74712), had been requested by the above-named individual. The requested modification has been granted under the authority of the Endangered Species Act of 1973, as amended (ESA; 16 U.S.C. 1531 et seq.) and the regulations governing the taking, importing, and exporting of endangered and threatened species (50 CFR 222-226).

Permit No. 18136 authorizes the permit holder to continue to describe the abundance and movements of an aggregation of hawksbill sea turtles (Eretmochelys imbricata) found on the barrier reefs of southeast Florida. Up to 50 sea turtles may be approached during dives for observation and photographs annually. Up to 25 additional animals may be hand captured, measured, flipper and passive integrated transponder tagged, photographed, tissue sampled, and released annually. Twelve hawksbills may be captured for the above procedures and fitted with a satellite transmitter prior to their release annually. The permit has been modified to authorize work in the waters of Miami-Dade and Monroe Counties. The permit is valid through September 30, 2019.

Issuance of this modification, as required by the ESA was based on a finding that such permit (1) was applied for in good faith, (2) will not operate to the disadvantage of such endangered or threatened species, and (3) is consistent with the purposes and policies set forth in section 2 of the ESA.

Dated: May 19, 2015.
Julia Harrison,
Chief, Permits and Conservation Division, Office of Protected Resources, National Marine Fisheries Service.

[FR Doc. 2015-12744 Filed 5-27-15; 8:45 am]

BILLING CODE 3510-22-P